DEPARTMENT OF THE TREASURY

Submission for OMB Review; Comment Request

May 25, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 2, 2007 to be assured of consideration.

Internal Revenue Service (IRS)

OMB Number: 1545-0170.

Type of Review: Extension.

Title: Corporation Application for Quick Refund of Overpayment of Estimated Tax.

Form: 4466.

Description: Form 4466 is used by a corporation to file for an adjustment (quick refund) of overpayment of estimated income tax for the tax year. This information is used to process the claim, so the refund can be issued.

Respondents: Businesses and other for-profit institutions.

Estimated Total Burden Hours: 76,433 hours.

OMB Number: 1545-0823.

Type of Review: Extension.

Title: Indian Tribal Governments Treated As States For Certain Purposes.

Description: The regulations provide that if the governing body of a tribe, or its subdivision, is not designated as an Indian tribal government or subdivision thereof for purpose of sections 7701(a)(40) and 7871, it may apply for a ruling from the IRS.

Respondents: State, local, or tribal governments.

Estimated Total Burden Hours: 25 hours.

OMB Number: 1545-1270.

Type of Review: Extension.

Title: PS-66-93 (Final) Gasohol; Compressed Natural Gas; PS-120-90 (Final) Gasoline Excise Tax.

Form: 8038, 8038-G, and 8038-GC.

Description: PS-66-93 Buyers of compressed natural gas for a non taxable use must give a certificate. Persons who pay a “first tax” on gasoline must file a report. PS-120-90 Gasoline refiners, traders, terminal operators, chemical companies and gasohol blenders must notify each other of their registration status and/or intended use of product before transactions may be made tax-free.

Respondents: Businesses and other for-profit institutions.

Estimated Total Burden Hours: 366 hours.

OMB Number: 1545-1354.

Type of Review: Extension.

Title: Treaty-Based Return Position Disclosure Under Section 6114 or 7701(b).

Form: 8833.

Description: Form 8833 is used by taxpayers that are required by section 6114 to disclose a treaty-based return position to disclose that position. The form may also be used to make the treaty-based position disclosure required by regulations section 301.7701(b)-7(b) for “dual resident” taxpayers.

Respondents: Businesses and other for-profit institutions.

Estimated Total Burden Hours: 25,640 hours.

OMB Number: 1545-1068.

Type of Review: Extension.

Title: INTL-362-88 (Final) Definition of a Controlled Foreign Corporation, Foreign Base Company Income, and Foreign Personal Holding Company Income of a Controlled Foreign Corporation

Description: The election and recordkeeping requirements are necessary to exclude certain high-taxed or active business income from subpart F income or to include certain income in the appropriate category of subpart F income. The recordkeeping and election procedures allow the U.S. shareholders and the IRS to know the amount of the controlled foreign corporation's subpart F income.

Respondents: Businesses or other for-profit institutions

Estimated Total Burden Hours: 50,417 hours.

Clearance Officer: Glenn P. Kirkland, (202) 622-3428. Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-10592 Filed 5-31-07; 8:45 am]

BILLING CODE 4830-01-P